DEPARTMENT OF THE INTERIOR

Fish and Wildlife Service

50 CFR Part 17

[FWS-R6-ES-2008-0131; MO-9221050083-B2]

Endangered and Threatened Wildlife and Plants; Partial 90-Day Finding on a Petition To List 206 Species in the Midwest and Western United States as Threatened or Endangered With Critical Habitat; Correction

AGENCY: Fish and Wildlife Service, Interior.

ACTION: Notice of 90-day petition finding; correction.

SUMMARY: On Tuesday, August 18, 2009, we, the U.S. Fish and Wildlife Service, announced a 90-day finding on 38 species from a petition to list 206 species in the mountain-prairie region of the United States as threatened or endangered under the Endangered Species Act of 1973, as amended (Act). In that notice, we used an incorrect docket number, and asked commenters to refer to this docket number in their comments. The correct docket number is [FWS-R6-ES-2008-0131]. However, comments we received under the incorrect docket number will be routed to the correct docket. If you already submitted a comment, even with the incorrect docket number, you need not resubmit it.

DATES: To allow us adequate time to conduct a status review, we request that we receive information on or before October 19, 2009.

ADDRESSES: You may submit information by one of the following methods:

• Federal rulemaking Portal: http://www.regulations.gov. Follow the instructions for submitting comments to Docket no. FWS-R6-ES-2008-0131.

• U.S. Mail or hand delivery: Public Comments Processing, Attn: FWS-R6-ES-2008-0131, Division of Policy and Directives Management, U.S. Fish and Wildlife Service, 4401 N. Fairfax Drive, Suite 222, Arlington, VA 22203. We will post all information received on http://www.regulations.gov. This generally means that we will post any personal information you provide us (see “Information Solicited” in our original notice—74 FR 41649—for more information).

FOR FURTHER INFORMATION CONTACT: Ann Carlson, Listing Coordinator, Mountain-Prairie Regional Ecological Services Office (see ADDRESSES); telephone 303-236-4264. If you use a telecommunications device for the deaf (TDD), please call the Federal Information Relay Service (FIRS) at 800-877-8339.

SUPPLEMENTARY INFORMATION: On Tuesday, August 18, 2009, we announced a 90-day finding on 38 species from a petition we received to list 206 species in the mountain-prairie region of the United States as threatened or endangered under the Act (16 U.S.C. 1531 et seq.) (74 FR 41649). For 9 of the 38 species, we found that the petition did not present substantial information indicating that listing may be warranted. For 29 of the 38 species, we found that the petition does present substantial scientific or commercial information indicating that listing may be warranted. Therefore, with the publication of the August 18, 2009, notice, we initiated a status review of the 29 species to determine if listing is warranted. To ensure that the review is comprehensive, we requested scientific and commercial information regarding these 29 species, and opened a comment period that is still open at this time (see DATES). For more information about the species, background, and our finding, see our original notice at 74 FR 41649.

Sara Prigan,
Federal Register Liaison.

[FR Doc. E9-21995 Filed 9-11-09; 8:45 am]

BILLING CODE 4310-55-P